NATIONAL CREDIT UNION ADMINISTRATION

Agency Information Collection Activities: Submission to OMB for Reinstatement, With Change, of a Previously Approved Collection; Comment Request

AGENCY: National Credit Union Administration (NCUA).

ACTION: Request for comment.

SUMMARY: The NCUA intends to submit the following information collection to the Office of Management and Budget (OMB) for review and clearance under the Paperwork Reduction Act of 1995. This information collection is published to obtain comments from the public. NCUA has authorized federal credit unions to advance money to members to cover account deficits without having a credit application on file if the credit union has a written overdraft policy. NCUA has also authorized federally insured credit unions to offer lending-related incentive pay to employees, provided they establish written policies regarding such plans.

DATES: Comments will be accepted until September 27, 2013.

ADDRESSES: Interested parties are invited to submit written comments to the NCUA Contact and the OMB Reviewer listed below:

NCUA Contact: Tracy Crews, National Credit Union Administration, 1775 Duke Street, Alexandria, Virginia 22314-3428, Fax No. 703-837-2861, Email: OCIOPRA@ncua.gov.

OMB Contact: Office of Management and Budget, ATTN: Desk Officer for the National Credit Union Administration, Office of Information and Regulatory Affairs, Washington, DC 20503.

FOR FURTHER INFORMATION CONTACT: Requests for additional information, a copy of the information collection request, or a copy of submitted comments should be directed to Tracy Crews at the National Credit Union Administration, 1775 Duke Street, Alexandria, VA 22314-3428, or at (703) 518-6444.

SUPPLEMENTARY INFORMATION:

I. Abstract and Request for Comments

NCUA is reinstating the collection of information for 3133-0139. NCUA has authorized federal credit unions to advance money to members to cover account deficits without having a credit application on file if the credit union has a written overdraft policy. 12 CFR 701.21(c)(3). NCUA believes a written policy is necessary to ensure safety and soundness in the credit union industry and to protect the interests of credit union members where a federal credit union provides overdraft protection to a member without having his or her credit application on file. NCUA has also authorized federally insured credit unions to offer lending-related incentive pay to employees, provided they establish written policies regarding such plans. 12 CFR 701.21(c)(8). NCUA believes those written policies are necessary to ensure a plan is fully considered before being adopted and for the examination process. NCUA examiners use the information in these policies to review for safety and soundness. This submission represents an adjustment to the recordkeeping hour and cost burden since the last submission. Based on information in March 2013 call reports, we estimate approximately 1,725 federal credit unions are required to have written overdraft policies and approximately 575 federally insured credit unions are required to have written policies for lending-related employee incentive pay plans.

The NCUA requests that you send your comments on this collection to the location listed in the addresses section. Your comments should address: (a) The necessity of the information collection for the proper performance of NCUA, including whether the information will have practical utility; (b) the accuracy of our estimate of the burden (hours and cost) of the collection of information, including the validity of the methodology and assumptions used; (c) ways we could enhance the quality, utility, and clarity of the information to be collected; and (d) ways we could minimize the burden of the collection of the information on the respondents such as through the use of automated collection techniques or other forms of information technology. It is NCUA's policy to make all comments available to the public for review.

II. Data

Title: Organization and Operations of Federal Credit Unions (12 CFR Part 701), (previously titled Overdraft and Lending-Related Employee Incentive Pay Plan Policies).

OMB Number: 3133-0139.

Form Number: None.

Type of Review: Reinstatement, with change, of a previously approved collection.

Description: Federal credit unions wishing to advance money to members to cover account deficits without having a credit application on file must establish a written overdraft policy. Federally insured credit unions wishing to pay lending-related incentives to employees must establish written policies.

Respondents: Certain Federal and federally insured credit unions.

Estimated No. of Respondents/Recordkeepers: 2,300.

Estimated Burden Hours per Response: 3 hours for overdraft policy and 2 hours for lending-related employee incentive pay plan policies.

Frequency of Response: On occasion.

Estimated Total Annual Burden Hours: 6,325 hours.

Estimated Total Annual Cost: $158,125.

By the National Credit Union Administration Board on August 22, 2013.
Gerard Poliquin,
Secretary of the Board.

[FR Doc. 2013-20941 Filed 8-27-13; 8:45 am]

BILLING CODE 7535-01-P